DEPARTMENT OF COMMERCE

National Oceanic and Atmospheric Administration

Hydrographic Services Review Panel Meeting; Correction

AGENCY: National Ocean Service, National Oceanic and Atmospheric Administration (NOAA), Department of Commerce.

ACTION: Notice; correction.

SUMMARY: The National Oceanic and Atmospheric Administration published a document in the Federal Register of May 15, 2009, entitled Hydrographic Services Review Panel Meeting. The information concerning the teleconference dial-in number and passcode were incorrect. The correct teleconference dial-in number and passcode are dial-in number: 888-829-8675 and passcode: 47777 #.

Date and Time: As published in the May 15, 2009, Federal Register, the conference call will convene at 2 p.m. Eastern Daylight Time, June 8, 2009, and end by 3 p.m., if not earlier.

Public Participation: The meeting will be open to the public, with conference connection information below. It is recommended that interested public call in at 2 p.m. when the meeting starts because there is not a fixed time for public comment. The HSRP Chair will ask at large if there are any comments or questions from the public after the Panel discusses recommendations from the April 14-15, 2009, meeting. A final vote on recommendations will follow before the meeting ends.

FOR FURTHER INFORMATION CONTACT: Captain Steven Barnum, NOAA, Designated Federal Official (DFO), Office of Coast Survey, National Ocean Service (NOS), NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION:

Correction

The National Oceanic and Atmospheric Administration published a document in the Federal Register of May 15, 2009, entitled Hydrographic Services Review Panel Meeting. The information concerning the teleconference dial-in number and passcode were incorrect. The correct teleconference dial-in number and passcode are dial-in number: 888-829-8675 and passcode: 47777 #.

Dated: June 2, 2009.
Donna Rivelli,
Deputy Associate Assistant Administrator for Management and CFO/CAO, Ocean Services and Coastal Zone Management.

[FR Doc. E9-13167 Filed 6-3-09; 8:45 am]

BILLING CODE 3510-JE-P